DEPARTMENT OF TRANSPORTATION

Federal Aviation Administration

[Docket No. FAA-2020-0046]

Agency Information Collection Activities: Requests for Comments; Clearance of Renewed Approval of Information Collection: Aircraft Registration

AGENCY: Federal Aviation Administration (FAA), DOT.

ACTION: Notice and request for comments.

SUMMARY: In accordance with the Paperwork Reduction Act of 1995, FAA invites public comments about our intention to request Office of Management and Budget (OMB) approval to renew a previously approved information collection. The information collected is used by the FAA to register aircraft or record a security interest in a registered aircraft. The information required to register and prove ownership of an aircraft is required from any person wishing to register an aircraft.

DATES: Written comments should be submitted by March 16, 2020.

ADDRESSES: Please send written comments:

By Electronic Docket: www.regulations.gov (Enter docket number into search field).

By Mail: Ken Thompson, Manager, Aircraft Registration Branch, AFB-710, P.O. Box 25504, Oklahoma City, OK 73125.

By Fax: 405-954-8068.

FOR FURTHER INFORMATION CONTACT: Bonnie Lefko by email at: bonnie.lefko@faa.gov; phone: 405-954-7461.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0042.

Title: Aircraft Registration.

Form Numbers: AC Forms 8050-1, 8050-1B, 8050-2, 8050-4, 8050-88, 8050-88A, 8050-98 and 8050-117.

Type of Review: Renewal of an information collection.

Background: Public Law 103-272 states that all aircraft must be registered before they may be flown. It sets forth registration eligibility requirements and provides for application for registration as well as suspension and/or revocation of registration. The information collected is used by the FAA to register an aircraft and record a security interest in a registered aircraft. The information requested is required to register aircraft and prove ownership and security interests in an aircraft.

Respondents: Approximately 162,176 registrants/security holders.

Frequency: Information is collected on occasion.

Estimated Average Burden per Response: 32 minutes.

Estimated Total Annual Burden: 135,457 hours.

Issued in Oklahoma City, OK, on January 10, 2020.
Bonnie Lefko,
Program Analyst, Civil Aviation Registry, Aircraft Registration Branch, AFB-710.

[FR Doc. 2020-00531 Filed 1-14-20; 8:45 am]

BILLING CODE 4910-13-P